DEPARTMENT OF ENERGY

Federal Energy Regulatory Commission

[Docket No. CP05-18-000]

Equitrans, L.P.; Notice of Technical Conference

December 7, 2004.

On November 23, 2004, a Notice of Proceeding was issued, stating the Commission's intention to convene a technical conference to address assertions by Equitrans, L.P. (Equitrans) that significant volumes of cushion gas are missing from its storage facilities. The technical conference will be held on Wednesday, December 15, 2004, at 1 p.m. (EST), in a room to be designated at the offices of the Federal Energy Regulatory Commission, 888 First Street, NE., Washington DC 20426.

At the technical conference, Equitrans shall present data and information to support its assertion that cushion gas has migrated from its storage facilities and to demonstrate the effects any such migration has on its storage operations. Equitrans also shall present its plan for implementing measures to ensure that its storage facilities can continue to operate without further gas loss within the defined geological parameters and without further reservoir or buffer expansion.

Attendance at this conference will be limited to those persons that have filed motions to intervene in this proceeding, in accordance with section 385.214 of the Commission's Rules and Regulations by the close of business on Monday, December 13, 2004. Persons planning to attend the December 15 conference should contact Amy Heyman at 202-502-8115 prior to the close of business on Tuesday, December 14, 2004.

FERC conferences are accessible under section 508 of the Rehabilitation Act of 1973. For accessibility accommodations please send an e-mail to accessibility@ferc.gov or call toll free (866) 208-3372 (voice) or 202-208-1659(TTY), or send a FAX to 202-208-2106 with the required accommodations.

Magalie R. Salas,
Secretary.

[FR Doc. E4-3631 Filed 12-13-04; 8:45 am]

BILLING CODE 6717-01-P